DEPARTMENT OF HOMELAND SECURITY

Coast Guard

DEPARTMENT OF TRANSPORTATION

Maritime Administration

[USCG-2002-14134]

Port Pelican LLC Deepwater Port License Application

AGENCY: Coast Guard, DHS, and Maritime Administrative, DOT.

ACTION: Final environmental impact statement, notice of availability.

SUMMARY: The U.S. Coast Guard and the Maritime Administration announce the availability of the final environmental impact statement for the Port Pelican LLC Deepwater Port License Application. We request your input on this final environmental impact statement, which covers the construction and operation of a liquefied natural gas deepwater port known as “Port Pelican” and associated anchorage on the Outer Continental Shelf in the Gulf of Mexico, approximately 36 miles south southwest of Freshwater City, Louisiana.

DATES: The final environmental impact statement (FEIS) will be available on August 29, 2003. Comments must reach the Coast Guard on or before October 2, 2003.

ADDRESSES: The FEIS will be available in the docket on the Internet at http://dms.dot.gov under docket number USCG-2002-14134 or by contacting the U.S. Coast Guard as indicated under

FOR FURTHER INFORMATION CONTACT: Comments may be submitted in several ways. To make sure your comments and related material are not entered more than once in the docket, please submit them by only one of the following means:

(1) Electronically through the Web site for the Docket Management System at http://dms.dot.gov.

(2) By mail to the Docket Management Facility (USCG-2002-14134), U.S. Department of Transportation, Room PL-401, 400 Seventh Street SW., Washington, DC 20590-0001.

(3) By fax to the Docket Management Facility at (202) 493-2251.

(4) By delivery to Room PL-401 on the Plaza Level of the Nassif Building, 400 Seventh Street, SW., Washington DC between 9 a.m. and 5 p.m., Monday through Friday, except Federal holidays. The telephone number is (202) 366-9329.

The Docket Management Facility maintains the public docket for this notice. Comments will become part of this docket and will be available along with the FEIS for inspection or copying at Room PL-401, located on the Plaza Level of the Nassif Building at the above address between 9 a.m. and 5 p.m., Monday through Friday, except for Federal holidays. You may also view this docket, including this notice and comments, on the Internet at http://dms.dot.gov.

FOR FURTHER INFORMATION CONTACT: If you have questions about the project, you may contact Commander Mark Prescott, U.S. Coast Guard at (202) 267-0225 or mprescott@comdt.uscg.mil. If you have questions on viewing or submitting material to the docket, call Andrea M. Jenkins, Program Manager, Docket Operations, telephone (202) 366-0271.

SUPPLEMENTARY INFORMATION:

Authority: 33 U.S.C. 1504(f).

Request For Comments

We encourage you to submit comments on this FEIS. If you do so, please include your name and address, identify this notice (USCG-2002-14134), and give the reason for each comment. You may submit your comments by mail, hand delivery, fax or electronic means to the Docket Management Facility at the address given under ADDRESSES, but please submit your comments and materials by only one means. If you submit them by mail or hand delivery, submit them in an unbound format, no larger than 8½ by 11 inches, suitable for copying and electronic filing. If you submit them by mail, and would like to know if they reached the Facility, please enclose a stamped, self-addressed postcard or envelope. We will consider all comments received during the comment period.

Proposed Action

The application plan calls for construction of the Port Pelican Deepwater Port and associated anchorage in an area situated in the Gulf of Mexico approximately 36 miles south southwest of Freshwater City, Louisiana, in Vermilion Block 140. Additional information on the application can be found on the Internet at http://dms.dot.gov under docket number USCG-2002-14134, or in the notice of application published in the Federal Register at 67 FR 79234 (Dec. 27, 2002).

The proposed project would deliver natural gas to the United States Gulf Coast using existing gas supply and gathering systems in the Gulf of Mexico and southern Louisiana. Gas would then be delivered to shippers using the national pipeline grid through interconnections with major interstate and intrastate pipelines.

The project would consist of the Port Pelican Terminal (the Terminal), an LNG receiving, storage and regasification facility and the Pelican Interconnector Pipeline (PIPL) to transport the gas to the existing offshore gas gathering system.

The project would consist of two concrete gravity based structure (GBS) units fixed to the seabed, which would include integral LNG storage tanks, support deck mounted LNG receiving and vaporization equipment and utilities, berthing accommodations for LNG carriers, facilities for delivery of natural gas to a pipeline transportation system, and personnel accommodations.

The Terminal would be able to receive the largest LNG carriers in service or on order in 2002. LNG carrier arrival frequency will be planned to match specified terminal gas delivery rates. All marine systems, communication, navigation aids and equipment necessary to conduct safe LNG carrier operations and receiving of product during specified atmospheric and sea states would be provided at the port.

The regasification process would consist of lifting the LNG from storage tanks, pumping the cold liquid to pipeline pressure, vaporization across heat exchanging equipment and delivery through custody transfer metering to the gas pipeline network. No gas conditioning would be required for the Terminal since the incoming LNG would be pipeline quality.

A 42-inch diameter offshore PIPL, 37 nautical miles in length, would be constructed as part of the project. The PIPL would transport gas from the Terminal to a point near the Tiger Shoal Platform “A” where it would connect to Henry-Floodway Gas Gathering System (HFGGS). The HFGGS would deliver the gas to the onshore U.S. gas pipeline network.

The Terminal would be constructed in two phases. Phase I would include the installation of two GBS units with internal storage tanks and facilities for LNG offloading, and vaporization capability to deliver a peak 1.0 billion standard cubic feet per day (SCFD) of natural gas to the pipeline system. Additional vaporization equipment and associated support equipment and facilities would be installed during Phase II to increase the facility vaporization and send out rate to 2.0 billion SCFD peak.

Alternatives

The FEIS examines in detail an alternative location for siting of the project and a no action alternative. The alternative site, approximately 30 miles east of Vermilion Block 140, would involve use of South Marsh Island Block 4. Evaluation of the no action alternative, defined as not approving the license application, provides a baseline for comparing the impacts associated with the proposed action and use of the alternative site.

Dated: August 29, 2003.
Joseph J. Angelo,
Director of Standards, Marine Safety, Security, and Environmental Protection, U.S. Coast Guard.
Raymond R. Barberesi,
Director, Office of Ports and Domestic Shipping, Maritime Administration.

[FR Doc. 03-22139 Filed 8-28-03; 8:45 am]

BILLING CODE 4910-81-P